DEPARTMENT OF HEALTH AND HUMAN SERVICES

[Document Identifier OS-0990-0438]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 2, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-0438-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Teen Pregnancy Prevention Performance Measures for FY2020.

Type of Collection: Revision.

OMB No.: 0990-0438.

Abstract: The Office of Population Affairs (OPA), U.S. Department of Health and Human Services (HHS), is requesting a revision of the performance measures for collecting data from new Teen Pregnancy Prevention Program grantees to be awarded in FY2020. In FY2020, OPA expects to award 3-year TPP cooperative agreements to up to 90 organizations across three funding announcements. Collection of performance measures is a requirement of all TPP grant awards and is included in the funding announcements. The measures include dissemination, partners, training, sustainability, reach, dosage, fidelity, quality, Tier 1 supportive services referrals, stakeholder engagement, and Tier 2 project type. To reflect the priorities of the new funding announcements, some of the measures and forms have been revised. The data collection will allow OPA to comply with federal accountability and performance requirements, inform stakeholders of grantee progress in meeting TPP program goals, provide OPA with metrics for monitoring FY2020 TPP grantees, and facilitate individual grantees' continuous quality improvement efforts within their projects.

Clearance is requested for three years.

Type of Respondent: TPP grantees and their staff.

Estimated Annualized Burden Table
Type of respondent | Number of respondents | Number responses per respondent | Average burden per response (in hours) | Total burden hours
TPP grantees (partners and sustainability) | 90 | 2 | 15/60 | 45
TPP Grantees (training) | 90 | 2 | 15/60 | 45
TPP Grantees (dissemination) | 90 | 2 | 30/60 | 90
TPP Grantees Stakeholder Engagement | 90 | 2 | 15/60 | 45
Tier 1 and Tier 2 Phase II grantees (Reach and Demographics) | 64 | 2 | 3 | 384
Tier 1 and Tier 2 Phase II grantees (Dosage) | 64 | 2 | 2 | 256
Tier 1 and Tier 2 Phase II grantees (Fidelity and Quality) | 64 | 2 | 2 | 256
Tier 2 Innovation Network Item | 14 | 2 | 15/60 | 7
Tier 1 Grantees (Supportive Services) | 54 | 2 | 15/60 | 27
Total | 90 | 2 |  | 1155

Sherrette A. Funn,
Office of the Secretary, Paperwork Reduction Act Reports Clearance Officer.

[FR Doc. 2020-11862 Filed 6-1-20; 8:45 am]

BILLING CODE 4150-34-P